NUCLEAR REGULATORY COMMISSION

[NRC-2012-0070]

Updated Aging Management Criteria for Reactor Vessel Internal Components of Pressurized Water Reactors

AGENCY: Nuclear Regulatory Commission.

ACTION: Draft interim staff guidance; Request for public comment; Correction.

SUMMARY: The U.S. Nuclear Regulatory Commission (NRC or the Commission) is supplementing a notice published in the Federal Register on March 20, 2012 (77 FR 16270), that requested public comments on draft license renewal interim staff guidance (LR-ISG), LR-ISG-2011-04, “Updated Aging Management Criteria for PWR Reactor Vessel Internal Components.”

The original notice provided the ADAMS Accession Number for the main body of LR-ISG-2011-04 but did not include accession numbers for Appendices A and B of the LR-ISG. This supplement provides the appropriate ADAMS Accession Numbers for the LR-ISG in its entirety, and does not change any other information in the original notice for public comment.

FOR FURTHER INFORMATION CONTACT: Ms. Evelyn Gettys, Division of License Renewal, Office of Nuclear Reactor Regulation, U.S. Nuclear Regulatory Commission, Washington, DC 20555-0001; telephone: 301-415-4029; email: Evelyn.Gettys@nrc.gov.

SUPPLEMENTARY INFORMATION: On March 20, 2012 (77 FR 16270), the NRC published a notice requesting public comments on draft LR-ISG-2011-04, “Updated Aging Management Criteria for PWR Reactor Vessel Internal Components.” In that publication on page 16271, first column under the section titled “SUPPLEMENTARY INFORMATION: Accessing Information and Submitting Comments; A. Accessing Information,” second bulleted point delete “Draft LR-ISG-2011-04 is available electronically under ADAMS Accession No. ML12004A149. Replace deletion with “The body for Draft LR-ISG-2011-04 is available electronically under ADAMS Accession No. ML12004A149 and Appendices for Draft LR-ISG-2011-04 are available electronically under ADAMS Accession No. ML12004A150.”

Dated at Rockville, Maryland, this 13th day of April, 2012.
For the Nuclear Regulatory Commission.
Mark S. Delligatti,
Deputy Director, Division of License Renewal, Office of Nuclear Reactor Regulation.

[FR Doc. 2012-9423 Filed 4-18-12; 8:45 am]

BILLING CODE 7590-01-P